DEPARTMENT OF HEALTH AND HUMAN SERVICES

Health Resources and Services Administration

Agency Information Collection Activities: Submission to OMB for Review and Approval; Public Comment Request; Information Collection Request Title: Maternal Health Portfolio Evaluation Design, OMB No. 0906-xxxx-NEW

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR should be received no later than November 19, 2020.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION: Information Collection Request Title: Maternal Health Portfolio Evaluation Design, OMB No. 0906-xxxx [NEW].

Abstract: HRSA programs provide health care to people who are geographically isolated, economically, or medically vulnerable. HRSA programs help those in need of high quality primary health care, such as pregnant women and mothers. Improving maternal health outcomes and access to quality maternity care services is a key component of the HRSA mission. HRSA's Maternal and Child Health Bureau (MCHB) provides funding to address some of the most urgent issues influencing the high rates of maternal mortality. Recent efforts to address persistent disparities in maternal, infant, and child health have employed a “life course” perspective and health equity lens focused on health promotion and disease prevention. Life course approach can be defined as analyzing people's lives within structural, social, and cultural contexts through a defined sequence of age categories that people are normally expected to pass through as they progress from birth to death. Health equity is defined as the attainment of the highest level of health for all people.

Achieving health equity for pregnant and postpartum women will require attention to barriers in access to quality health services and promotion of equal opportunities to seek the highest possible level of health and well-being. Achieving health equity also requires a focus on social determinants of health.

With this emphasis on improving maternal health across the life course and promoting optimal health for all mothers, HRSA is employing a multipronged strategy to address maternal mortality and severe maternal morbidity through the following suite of programs:

1. The State Maternal Health Innovation Program;

2. The Alliance for Innovation on Maternal Health Program:

3. The Alliance for Innovation on Maternal Health—Community Care Initiative;

4. The Rural Maternity and Obstetrics Management Strategies Program; and,

5. The Supporting Maternal Health Innovation Program.

MCHB is conducting a portfolio-wide evaluation of HRSA-supported Maternal Health (MH) Programs with a primary focus on reducing maternal mortality. Through this evaluation, MCHB seeks to identify individual and/or collective strategies, interrelated activities, and common themes within and across the MH Programs that may be contributing to or driving improvements in key maternal health outcomes. MCHB seeks to ascertain which components should be elevated and replicated to the national level, as well as inform future investments to reduce rates of maternal mortality and severe maternal morbidity.

A 60-day notice was published in the Federal Register on June 8, 2020, vol. 85, No. 110; pp. 34739-40. There were no public comments.

Need and Proposed Use of the Information: MCHB seeks to understand the impact of HRSA's investments in MH programs. These five programs represent a total of 12 state-based programs and three programs with the potential for national reach. In understanding the strategies that are most effective in reducing maternal morbidity and mortality, program elements could be replicated and/or scaled up nationally.

Likely Respondents: Likely respondents are recipients of the cooperative agreements mentioned above (The State Maternal Health Innovation Program; The Alliance for Innovation on Maternal Health Program; The Alliance for Innovation on Maternal Health—Community Care Initiative; The Rural Maternity and Obstetrics Management Strategies Program; and, The Supporting Maternal Health Innovation Program) which represents 11 state health agencies, two national organizations, and two academic organizations.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number responses per respondent | Total responses | Average burden per response (in hours) | Total burden hours
Instrument 1: Interview guide for grantee staff | 75 | 1 | 75 | 1.00 | 75.0
Instrument 2: Interview guide for HRSA POs | 7 | 1 | 7 | 1.50 | 10.5
Instrument 3: Partnership Survey | 290 | 1 | 290 | 0.25 | 72.5
Instrument 4: Web-based data collection tool | 15 | 1 | 15 | 0.50 | 7.5
Total | 387 |  | 387 |  | 165.5

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2020-23114 Filed 10-19-20; 8:45 am]

BILLING CODE 4165-15-P